NATIONAL COUNCIL ON DISABILITY

Sunshine Act Meetings

TIME AND DATE: The Members of the National Council on Disability (NCD) will hold a two-day in-person Council meeting on Thursday, November 16, 2023, 9 a.m.-4:30 p.m. Eastern Standard Time (EST) and Friday, November 17, 2023, 10 a.m.-1:15 p.m., EST.

PLACE: This meeting will take place at the Omni Hotel and Resort, One West Exchange Street, Providence, RI 02903. The event will also be streamed live via Zoom videoconference for those not able to attend in person. Registration is not required. Details are available on NCD's event page at https://ncd.gov/events/2023/upcoming-council-meeting.

MATTERS TO BE CONSIDERED:

Day 1—Following welcome remarks and introductions, Chairman Gallegos will host a fireside chat discussion with former Chair Sandra Parrino; then a brief break; followed by a town hall public comment session about housing concerns and opportunities; followed by a housing concerns panel presentation and questions from the Council. Following a lunch break, a town hall public comment session about transportation concerns and opportunities is followed by a transportation concerns panel presentation and questions from the Council; followed by a briefing on NCD's upcoming progress report Toward Economic Security, before adjourning.

Day 2—Welcome remarks and introductions are followed by the Chairman's report; Executive Committee report, Executive Director's report; policy updates; Council member report outs; a break; annual ethics training; and any old or new business, before adjourning.

AGENDA: The times provided below are approximations for when each agenda item is anticipated to be discussed (all times Eastern Standard Time):

Thursday, November 16, 2023

9:00-9:15 a.m.—Welcome and Call to Order

9:15-10:15 a.m.—Fireside Chat with Sandy Parrino

10:15-10:30 a.m.—BREAK

10:30-11:15 a.m.—Housing Concerns and Opportunities Town Hall

11:15 a.m.-12:15 p.m.—Housing Concerns and Opportunities Panel, Q&A

12:15-1:30 p.m.—LUNCH BREAK

1:30-2:15 p.m.—Transportation Concerns and Opportunities Town Hall

2:15-3:15 p.m.—Transportation Concerns and Opportunities Panel, Q&A

3:15-3:30 p.m.—BREAK

3:30-4:30 p.m.—Toward Economic Security progress report briefing and respondent panel

4:30 p.m.—Adjourn

Friday, November 17, 2023

10:00-10:05 a.m.—Welcome and Call to Order

10:05-10:15 a.m.—Chairman's Report

10:15-10:30 a.m.—Executive Committee Report

10:30-10:40 a.m.—Executive Director's Report

10:40-11:15 a.m.—Policy Updates

11:15-11:45 a.m.—Council Member report outs on community outreach/input

11:45 a.m.-12:00 p.m.—BREAK

12:00-1:00 p.m.—Annual Ethics Training

1:00-1:15 p.m.—Old Business/New Business

1:15 p.m.—Adjourn

PUBLIC COMMENT: Your participation during NCD's public comment period provides an opportunity for us to hear from you—individuals, businesses, providers, educators, parents and advocates. Your comments are important in bringing to the Council's attention and issues and priorities of the disability community, and help inform open research projects the Council has underway as well as the potential for future ones.

For the November 16 Council meeting, NCD will have two town hall format public comment sessions focused on housing concerns and opportunities, and transportation concerns and opportunities for people with disabilities. Commenters will be limited to three minutes each to accommodate as many comments as possible. Additional information on specifics of the topic is available on NCD's public comment page at https://ncd.gov/public-comment.

The Council will prioritize in-person commenters, but as time permits, will also receive public comment by video or audio over Zoom, and always accepts advance public comments via email. Due to the hybrid nature of the event, in-person presentations will be given priority.

To provide public comment during an NCD Council Meeting in any form (in-person or by Zoom), NCD now requires advanced registration by sending send an email to PublicComment@ncd.gov with the subject line “Public Comment” and your name, organization, state, and topic of comment included in the body of your email. Deadline for registration is November 14, 8:00 p.m. EST. Please indicate if you are providing the comment in-person, over Zoom, or only submitting via email. All individuals desiring to make public comment are strongly encouraged to read NCD's guidelines for public comment in advance of the meeting at: https://ncd.gov/public-comment.

While public comment can be submitted on any topic over email, comments during the meeting should be specific to experiences with housing concerns and opportunities for people with disabilities.

CONTACT PERSON FOR MORE INFORMATION: Nicholas Sabula, Public Affairs Specialist, NCD, 1331 F Street NW, Suite 850, Washington, DC 20004; 202-272-2004 (V), or nsabula@ncd.gov.

ACCOMMODATIONS: ASL Interpreters will be provided in-room and included during the live streamed meeting, and CART has been arranged for this meeting and will be embedded into the Zoom platform as well as available via streamtext link. The web link to access CART (in English) is: https://www.streamtext.net/player?event=NCD.

If you require additional accommodations, please notify Stacey Brown by sending an email to sbrown@ncd.gov as soon as possible and no later than 24 hours prior to the meeting.

Due to last-minute confirmations or cancellations, NCD may substitute items without advance public notice.

Dated: September 25, 2023.
Anne C. Sommers McIntosh,
Executive Director.

[FR Doc. 2023-21421 Filed 9-26-23; 11:15 am]

BILLING CODE 8421-02-P